NATIONAL TRANSPORTATION SAFETY BOARD

Sunshine Act Meeting

TIME AND DATE: 9:30 a.m., Tuesday, September 27, 2011.

PLACE: NTSB Conference Center, 429 L'Enfant Plaza, SW., Washington, DC 20594.

STATUS: The ONE item is open to the public.

MATTER TO BE CONSIDERED: 8205A Marine Accident Report—Collision of Tankship EAGLE OTOME with Cargo Vessel GULL ARROW and Subsequent Collision with the DIXIE VENGEANCE Tow Sabine-Neches Canal, Port Arthur, Texas, January 23, 2010.

NEWS MEDIA CONTACT: Telephone: (202) 314-6100.

The press and public may enter the NTSB Conference Center one hour prior to the meeting for set up and seating.

Individuals requesting specific accommodations should contact Rochelle Hall at (202) 314-6305 by Friday, September 23, 2011.

The public may view the meeting via a live or archived Webcast by accessing a link under “News & Events” on the NTSB home page at http://www.ntsb.gov.

FOR FURTHER INFORMATION CONTACT: Candi Bing, (202) 314-6403 or by e-mail at bingc@ntsb.gov.

September 9, 2011.
Candi R. Bing,
Federal Register Liaison Officer.

[FR Doc. 2011-23600 Filed 9-12-11; 11:15 am]

BILLING CODE 7533-01-P